DEPARTMENT OF HOMELAND SECURITY

Federal Emergency Management Agency

44 CFR Part 67

[Docket No. FEMA-B-7784]

Proposed Flood Elevation Determinations

AGENCY: Federal Emergency Management Agency, DHS.

ACTION: Proposed rule.

SUMMARY: Comments are requested on the proposed Base (1 percent annual-chance) Flood Elevations (BFEs) and proposed BFE modifications for the communities listed in the table below. The purpose of this notice is to seek general information and comment regarding the proposed regulatory flood elevations for the reach described by the downstream and upstream locations in the table below. The BFEs and modified BFEs are a part of the floodplain management measures that the community is required either to adopt or show evidence of having in effect in order to qualify or remain qualified for participation in the National Flood Insurance Program (NFIP). In addition, these elevations, once finalized, will be used by insurance agents, and others to calculate appropriate flood insurance premium rates for new buildings and the contents in those buildings.

DATES: Comments are to be submitted on or before September 10, 2008.

ADDRESSES: The corresponding preliminary Flood Insurance Rate Map (FIRM) for the proposed BFEs for each community are available for inspection at the community's map repository. The respective addresses are listed in the table below.

You may submit comments, identified by Docket No. FEMA-B-7784, to William R. Blanton, Jr., Chief, Engineering Management Branch, Mitigation Directorate, Federal Emergency Management Agency, 500 C Street, SW., Washington, DC 20472, (202) 646-3151 or (e-mail) bill.blanton@dhs.gov.

FOR FURTHER INFORMATION CONTACT: William R. Blanton, Jr., Chief, Engineering Management Branch, Mitigation Directorate, Federal Emergency Management Agency, 500 C Street, SW., Washington, DC 20472, (202) 646-3151 or (e-mail) bill.blanton@dhs.gov.

SUPPLEMENTARY INFORMATION: The Federal Emergency Management Agency (FEMA) proposes to make determinations of BFEs and modified BFEs for each community listed below, in accordance with section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

Comments on any aspect of the Flood Insurance Study and FIRM, other than the proposed BFEs, will be considered. A letter acknowledging receipt of any comments will not be sent.

Administrative Procedure Act Statement. This matter is not a rulemaking governed by the Administrative Procedure Act (APA), 5 U.S.C. 553. FEMA publishes flood elevation determinations for notice and comment; however, they are governed by the Flood Disaster Protection Act of 1973, 42 U.S.C. 4105, and the National Flood Insurance Act of 1968, 42 U.S.C. 4001 et seq., and do not fall under the APA.

National Environmental Policy Act. This proposed rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Executive Order 12866, Regulatory Planning and Review. This proposed rule is not a significant regulatory action under the criteria of section 3(f) of Executive Order 12866, as amended.

Executive Order 13132, Federalism. This proposed rule involves no policies that have federalism implications under Executive Order 13132.

Executive Order 12988, Civil Justice Reform. This proposed rule meets the applicable standards of Executive Order 12988.

List of Subjects in 44 CFR Part 67

Administrative practice and procedure, Flood insurance, Reporting and recordkeeping requirements.

Accordingly, 44 CFR part 67 is proposed to be amended as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location ** | * Elevation in feet (NGVD) + Elevation in feet (NAVD) # Depth in feet above ground: Existing | * Elevation in feet (NGVD) + Elevation in feet (NAVD) # Depth in feet above ground: Modified
Unincorporated Areas of Morrow County, Ohio
Ohio | Unincorporated Areas of Morrow County | Whetstone Creek | 1290 feet downstream of Cardington Road | None | +1050
|  |  | 1570 feet downstream of U.S. Route 42 | None | +1068
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
Unincorporated Areas of Morrow County
Maps are available for inspection at 80 North Walnut Street, Suite C, Mt. Gilead, OH 43338.

Flooding source(s) | Location of referenced elevation ** | * Elevation in feet (NGVD) + Elevation in feet (NAVD) # Depth in feet above ground: Effective | * Elevation in feet (NGVD) + Elevation in feet (NAVD) # Depth in feet above ground: Modified | Communities affected
Cortland County, New York, and Incorporated Areas
Blue Creek | Confluence with Dry Creek | +1183 | +1185 | Town of Cortlandville.
| Approximately 215 feet upstream of Kinney Gulf Road | None | +1204
Dry Creek | Approximately 720 feet downstream of North Main Street | +1115 | +1116 | City of Cortland, Town of Cortlandville.
| Approximately 330 feet upstream of Kinney Gulf Road | None | +1211
Gridley Creek | Confluence with Tiougnioga River | None | +1044 | Town of Virgil.
| Approximately 1.8 miles upstream of Page Green Road | None | +1462
Gridley Creek Tributary 9 | Confluence with Gridley Creek | None | +1354 | Town of Virgil.
| Approximately 1,915 feet upstream of State Route 392 | None | +1396
Gridley Creek Tributary 9-1 | Confluence with Hope Lake | None | +1429 | Town of Virgil.
| Approximately .4 mile upstream of Clute Road | None | +1564
Hope Lake | Entire shoreline within community | None | +1429 | Town of Virgil.
Mosquito Creek | Approximately 50 feet upstream of West Center Street | +1153 | +1150 | Town of Cortlandville, Village of Mcgraw.
| Approximately .78 mile upstream of Heath Road | +1517 | +1509
Otselic River | Approximately 991 feet downstream of Route 23 | None | +1034 | Town of Cincinnatus.
| Approximately 1.6 miles upstream of Telephone Road | None | +1053
Otter Creek | Approximately 130 feet upstream of North Main Street | +1119 | +1121 | City of Cortland, Town of Cortlandville.
| Approximately 70 feet upstream of State Route 13 | None | +1186
Otter Creek Tributary 3 | Confluence with Otter Creek | None | +1170 | Town of Cortlandville.
| Approximately 1,000 feet upstream of Gutchess Lumber Service Road | None | +1170
Skaneateles Lake | Entire shoreline within community | None | +867 | Town of Scott.
Song Lake | Entire shoreline within community | None | +1195 | Town of Preble.
Tioughnioga River Reach 2 | Approximately .58 mile downstream of Main Street | None | +1014 | Town of Marathon, Village of Marathon.
| Approximately .85 mile upstream of Main Street | None | +1023
Trout Brook | At Town of Solon Corporate Limits, approximately 1.280 miles upstream of Hollow Road | None | +1204 | Town of Solon.
| Approximately 1.288 miles upstream of Hollow Road | None | +1204
Tully Lake | Entire shoreline within community | None | +1195 | Town of Preble.
* National Geodetic Vertical Datum.
+ North American Vertical Datum.
# Depth in feet above ground.
** BFEs to be changed include the listed downstream and upstream BFEs, and include BFEs located on the stream reach between the referenced locations above. Please refer to the revised Flood Insurance Rate Map located at the community map repository (see below) for exact locations of all BFEs to be changed.
Send comments to William R. Blanton, Jr., Chief, Engineering Management Branch, Mitigation Directorate, Federal Emergency Management Agency, 500 C Street, SW., Washington, DC 20472.
ADDRESSES
City of Cortland
Maps are available for inspection at Cortland City Hall, 25 Court Street, Cortland, NY.
Town of Cincinnatus
Maps are available for inspection at Cincinnatus Town Hall, 2770 Lower Cincinnatus Road, Cincinnatus, NY.
Town of Cortlandville
Maps are available for inspection at Cortlandvile Town Hall, Raymond G. Thorpe Municipal Building, 3577 Terrace Road, Cortland, NY.
Town of Marathon
Maps are available for inspection at Town of Marathon Highway Department, 16 Brink Street, Marathon, NY.
Town of Preble
Maps are available for inspection at Preble Town Hall, 1968 Preble Road, Preble, NY.
Town of Scott
Maps are available for inspection at Scott Town Hall, 6689 NYS Route 41, Homer, NY.
Town of Solon
Maps are available for inspection at Solon Town Hall, 4012 North Tower Road, East Freetown, NY.
Town of Virgil
Maps are available for inspection at Virgil Town Hall, 1176 Church Street, Cortland, NY.
Village of Marathon
Maps are available for inspection at Marathon Village Hall, 18 Tannery Street, Marathon, NY.
Village of Mcgraw
Maps are available for inspection at McGraw Village Hall, 1 Cemetery Street, McGraw, NY.

(Catalog of Federal Domestic Assistance No. 97.022, “Flood Insurance.”)

Dated: May 28, 2008.
David I. Maurstad,
Federal Insurance Administrator of the National Flood Insurance Program, Department of Homeland Security, Federal Emergency Management Agency.

[FR Doc. E8-13208 Filed 6-11-08; 8:45 am]

BILLING CODE 9110-12-P